DEPARTMENT OF HOMELAND SECURITY

Coast Guard

[USCG-2007-27096]

Towing Safety Advisory Committee; Vacancies

AGENCY: Coast Guard, DHS.

ACTION: Request for applications.

SUMMARY: The Coast Guard seeks applications for membership on the Towing Safety Advisory Committee (TSAC). TSAC advises the Coast Guard on matters relating to shallow-draft inland and coastal waterway navigation and towing safety.

DATES: Application forms should reach the Coast Guard on or before March 30, 2007.

ADDRESSES: Applications are available on the Advisory Committee Web site at http://homeport.uscg.mil/mycg/portal/ep/home.do, “Ports and Waterways,” “Safety Advisory Committees,” and look for “ACM” (Application for Committee Membership). You may also request an application form by writing to Commandant (CG-3PS0-1/TSAC); U.S. Coast Guard, Room 1210; 2100 Second Street, SW., Washington, DC 20593-0001; by calling 202-372-1401; or by faxing 202-372-1926. Send your original completed and signed application in written form to the above street address. Be sure to sign and include the short page that allows us to keep political affiliation on file. In addition to your phone number, please indicate your e-mail address in the “TELEPHONE” block. This notice is available on the Internet at http://dms.dot.gov in docket USCG-2007-27096.

FOR FURTHER INFORMATION CONTACT: Mr. Gerald Miante; Assistant Executive Director of TSAC, telephone 202-372-1407, fax 202-372-1926, or e-mail Gerald.P.Miante@uscg.mil.

SUPPLEMENTARY INFORMATION: The Towing Safety Advisory Committee (TSAC) is a Federal advisory committee mandated by Congress and operates under 5 U.S.C. App. 2, (Pub. L. 92-463, 86 Stat. 770, as amended). It advises the Secretary of Homeland Security on matters relating to shallow-draft inland and coastal waterway navigation and towing safety. This advice also assists the Coast Guard in formulating the position of the United States in advance of meetings of the International Maritime Organization.

TSAC meets at least once a year at Coast Guard Headquarters, Washington, DC, or another location selected by the Coast Guard. It may also meet for extraordinary purposes. Its Subcommittees and working groups may meet to consider specific issues as required. The 16-person membership includes 7 representatives of the Barge and Towing Industry (reflecting a regional geographical balance); 1 member from the Offshore Mineral and Oil Supply Vessel Industry; and 2 members from each of the following areas: Maritime Labor; Shippers (of whom at least one shall be engaged in the shipment of oil or hazardous materials by barge); Port Districts, Authorities, or Terminal Operators; and the General Public.

We are currently considering applications for three positions from the Barge and Towing Industry, one position from Port Districts, Authorities, or Terminal Operators; one position from Maritime Labor; and two positions from Shippers. To be eligible, applicants should have particular expertise, knowledge, and experience relative to the position in towing operations, marine transportation, or business operations associated with shallow-draft inland and coastal waterway navigation and towing safety. Each member serves for a term of up to 4 years. A few members may serve consecutive terms. All members serve at their own expense and receive no salary, reimbursement of travel expenses, or other compensation from the Federal Government.

When filling in the “Name of Committee you are interested in” block, please indicate “TSAC” followed by the position category (e.g., Barge and Towing, Maritime Labor, Port Districts, Authorities, or Terminal Operators, or Shipper) for which you are applying.

In support of the policy of the Department of Homeland Security on gender and ethnic diversity, we encourage qualified women and members of minority groups to apply.

Dated: January 26, 2007.
L.W. Thomas,
Captain, U.S. Coast Guard, Acting Director of National and International Standards, Assistant Commandant for Prevention-Operations.

[FR Doc. E7-1612 Filed 1-31-07; 8:45 am]

BILLING CODE 4910-15-P